DEPARTMENT OF TRANSPORTATION

Federal Highway Administration

Notice of Final Federal Agency Actions on Juneau Access Improvements Project in Alaska

AGENCY: Federal Highway Administration (FHWA), Department of Transportation (DOT).

ACTION: Notice of limitation on claims for judicial review of actions by FHWA and other Federal agencies.

SUMMARY: This notice announces final actions taken by the FHWA. The actions relate to the proposed Juneau Access Improvements (JAI) Project in the City and Borough of Juneau, Haines Borough, and Municipality of Skagway Borough in the State of Alaska. Those actions grant approvals for the project.

DATES: By this notice, FHWA is advising the public of final agency actions subject to 23 U.S.C. 139(l)(1). A claim seeking judicial review of FHWA actions on the JAI Project will be barred unless the claim is filed on or before December 27, 2018. If the Federal law that authorizes judicial review of a claim provides a time period of less than 150 days for filing such claim, then that shorter time period still applies.

FOR FURTHER INFORMATION CONTACT: Tim Haugh, Environmental Program Manager, FHWA, Alaska Division, 709 West 9th Street, Room 851, Juneau, AK 99802, telephone (907) 586-7418; email: Tim.Haugh@dot.gov. The FHWA Alaska Division Office's normal business hours are 8:00 a.m. to 5:00 p.m. (Alaska Time), Monday through Friday, except Federal holidays. You may also contact Greg Lockwood, Preliminary Design and Environmental Group Chief, Alaska Department of Transportation and Public Facilities, Southcoast Region, P.O. Box 112506, Juneau, AK 99811-2506, telephone (907) 465-1828; email: greg.lockwood@alaska.gov. The DOT&PF Southcoast Region's normal business hours are 8:00 a.m. to 4:30 p.m. (Alaska Time), Monday through Friday, except State and Federal holidays.

SUPPLEMENTARY INFORMATION: Notice is hereby given that FHWA has taken final agency action subject to 23 U.S.C. 139(l)(1) by issuing approvals for the JAI Project (Project Number STP-000S (131)/71100) in the State of Alaska. The purpose of the JAI Project is to improve public access to and from Juneau in Lynn Canal. Seven build alternatives were evaluated, along with a No Action Alternative. Alternatives include a combination of highway and ferry routes and improved ferry service in Lynn Canal in Southeast Alaska. The routes pass through City and Borough of Juneau, Haines Borough, and/or Municipality of Skagway Borough. The selected alternative was the No Action Alternative.

The actions by the FHWA, and the laws under which such actions were taken, are described in the JAI Project Final Supplemental Environmental Impact Statement (Final SEIS) and Record of Decision (ROD), issued on June 18, 2018. The Final SEIS and ROD are available on the project website at www.juneauaccess.alaska.gov, or obtained from the contacts provided above.

This notice applies to all FHWA decisions as of the issuance date of this notice and all laws under which such actions were taken, including but not limited to:

1. General: National Environmental Policy Act (NEPA) [42 U.S.C. 4321-4351]; Federal-Aid Highway Act [23 U.S.C. 109 and 23 U.S.C. 128]; Alaska National Interest Lands Conservation Act of 1980 (ANILCA) [16 U.S.C. 3164].

2. Air: Clean Air Act [42 U.S.C. 7401-7671q].

3. Land: Section 4(f) of the Department of Transportation Act of 1966, as amended [49 U.S.C. 303]; ANILCA Title XI (Conservation System Units) [16 U.S.C. Ch. 58, Subchapter IV, Section 3161 et seq].

4. Fish and Wildlife: Section 7 of the Endangered Species Act (ESA) of 1973 [16 U.S.C. 1531-1544 and Section 1536]; Marine Mammal Protection Act [16 U.S.C. 1361-1423h]; Fish and Wildlife Coordination Act [16 U.S.C. 661-667d]; Migratory Bird Treaty Act (MBTA) [16 U.S.C. 703-712]; Bald and Golden Eagle Protection Act [16 U.S.C. 668-668d]; Magnuson-Steven Fishery Conservation and Management Act/Sustainable Fisheries Act [16 U.S.C. 1801 et seq].

5. Historic and Cultural Resources: Section 106 of the National Historic Preservation Act of 1966, as amended [54 U.S.C. 306108]; Archeological Resources Protection Act of 1977 [16 U.S.C. 470(aa)-470(mm)]; Archaeological and Historic Preservation Act [54 U.S.C. 312501-312508]; Native American Graves Protection and Repatriation Act (NAGPRA) [25 U.S.C. 3001-3013].

6. Social and Economic: Civil Rights Act of 1964 [42 U.S.C. 2000(d)-2000(d)(1)]; American Indian Religious Freedom Act [42 U.S.C. 1996]; ANILCA Title VIII, Section 810 (Subsistence) [16 U.S.C. 3120]; Uniform Relocation and Real Property Acquisition Act [42 U.S.C 4601 et seq].

7. Wetlands and Water Resources: Clean Water Act (Sections 319 and 401) [33 U.S.C. 1251-1387]; Safe Drinking Water Act [42 U.S.C. 300(f)-300(j)(6)]; Land and Water Conservation Fund (LWCF) [16 U.S.C. 4601-4604]; Safe Drinking Water Act (SDWA) [42 U.S.C. 300f-300j-26)]; Rivers and Harbors Act of 1899 Section 10 [33 U.S.C. 1344]; Emergency Wetlands Resources Act, [16 U.S.C. 3921, 3931]; Wetlands Mitigation [23 U.S.C. 119(g) and 133(b)(14)]; Flood Disaster Protection Act [42 U.S.C. 4001-4128].

8. Executive Orders: E.O. 11988, Floodplain Management; E.O. 11990, Protection of Wetlands; E.O. 12898, Federal Actions to Address Environmental Justice in Minority Populations and Low Income Populations; E.O. 13112, Invasive Species; E.O. 13175, Consultation and Coordination with Indian Tribal Governments; E.O. 13166, Improving Access to Services for Persons with Limited English Proficiency; E.O. 13186, Responsibilities of Federal Agencies to Protect Migratory Birds.

(Catalog of Federal Domestic Assistance Program Number 20.205, Highway Planning and Construction. The regulations implementing Executive Order 12372 regarding intergovernmental consultation on Federal programs and activities apply to this program.)

Authority: 23 U.S.C. 139 (l)(1).

Issued on: July 23, 2018.
Sandra A. Garcia-Aline,
Federal Highway Administration, Alaska Division Administrator, Juneau.

[FR Doc. 2018-16263 Filed 7-27-18; 8:45 am]

BILLING CODE 4910-22-P